DEPARTMENT OF HEALTH AND HUMAN SERVICES

Centers for Disease Control and Prevention

[60Day-22-22AQ; Docket No. CDC-2021-0122]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a proposed and/or continuing information collection, as required by the Paperwork Reduction Act of 1995. This notice invites comment on a proposed information collection project titled “Requirement for Airlines and Operators to Collect and Transmit Designated Information for Passengers and Crew Arriving Into the United States; Requirement for Passengers to Provide Designated Information,” which will provide CDC with the ability to collect traveler contact information from passengers and airlines to facilitate any necessary public health follow-up.

DATES: CDC must receive written comments on or before January 21, 2022.

ADDRESSES: You may submit comments, identified by Docket No. CDC-2021-0122 by any of the following methods:

• Federal eRulemaking Portal: Regulations.gov. Follow the instructions for submitting comments.

• Mail: Jeffery M. Zirger, Information Collection Review Office, Centers for Disease Control and Prevention, 1600 Clifton Road NE, MS H21-8, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffery M. Zirger, of the Information Collection Review Office, Centers for Disease Control and Prevention, 1600 Clifton Road NE, MS H21-8, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Information Collection for the Requirement for Airlines and Operators to Collect and Transmit Designated Information for Passengers and Crew Arriving Into the United States; Requirement for Passengers to Provide Designated Information (42 CFR part 71.4, 71.20, 71.31, and 71.32)—New—National Center for Emerging Zoonotic and Infectious Diseases (NCEZID), Centers for Disease Control and Prevention (CDC).

Background and Brief Description

The Centers for Disease Control and Prevention (CDC), a component of the Department of Health and Human Services (HHS), has the regulatory authority to collect contact information from airlines under 42 CFR 71. CDC exercises this authority to ensure that public health agencies across the United States can provide appropriate public health follow-up to travelers who may be ill or exposed to a communicable disease.

CDC announces the requirement for all airlines and operators to collect and/or maintain passenger and crew contact information (designated information), and for passengers to provide such information to airlines and operators, on flights arriving into the United States. This includes flights with intermediate stops in the United States between the flight's foreign point of origin and the final destination. Unless otherwise transmitted to the U.S. Government via established U.S. Department of Homeland Security (DHS) data systems, airlines and operators are required to retain the designated information for 30 days and transmit it within 24 hours of a request from CDC. Accurate and complete contact information is needed to protect the health of travelers and U.S. communities and for the purposes of public health follow-up.

CDC estimates burden to passengers and airline staff to be 6,191,028 hours.

Estimated Annualized Burden Hours
Type of respondent | Form name | Number of respondents | Number of responses per respondent | Average burden per response (in hours) | Total burden (in hours)
Passenger providing information to airline staff (call centers) | Passenger “Acknowledgement” and collection of information from passengers | 12,300,000 | 1 | 2/60 | 410,000
Passenger providing information to airline staff (airport check-in or gate agent) | Passenger “Acknowledgement” and collection of information from passengers | 6,150,000 | 1 | 2/60 | 205,000
Passenger providing information to travel agents | Passenger “Acknowledgement” and collection of information from passengers | 44,280,000 | 1 | 2/60 | 1,476,000
Passenger entering information electronically | Passenger “Acknowledgement” and collection of information from passengers | 60,270,000 | 1 | 2/60 | 2,009,000
Airline staff (call centers) | Passenger “Acknowledgement” and collection of information from passengers | 12,300,000 | 1 | 2/60 | 410,000
Airline staff (airport check-in or gate agent) | Passenger “Acknowledgement” and collection of information from passengers | 6,150,000 | 1 | 2/60 | 205,000
Travel Agents | Passenger “Acknowledgement” and collection of information from passengers | 44,280,000 | 1 | 2/60 | 1,476,000
Database administrator—Set up SAMS account | No Form | 11 | 11 | 5/60 | 10
Database administrator—Transmit JSON or .cvs data via SAMS or SFTP | No Form | 22 | 5 | 10/60 | 18
Total |  |  |  |  | 6,191,028

Jeffrey M. Zirger,
Lead, Information Collection Review Office, Office of Scientific Integrity, Office of Science, Centers for Disease Control and Prevention.

[FR Doc. 2021-25447 Filed 11-19-21; 8:45 am]

BILLING CODE 4163-18-P